DEPARTMENT OF LABOR

Employment and Training Administration

[NAFTA—03529]

Cerplex, Corvallis, OR; Dismissal of Application for Reconsideration

Pursuant to 29 CFR 90.18(C) an application for administrative reconsideration was filed with the Director of the Division of Trade Adjustment Assistance for workers at Cerplex, Corvallis, Oregon. The application contained no new substantial information which would bear importantly on the Department's determination. Therefore, dismissal of the application was issued.

NAFTA—03529; Cerplex, Corvallis, Oregon (April 14, 2000)

Signed at Washington, D.C. this 14th day of April, 2000.
Grant D. Beale,
Program Manager, Division of Trade Adjustment Assistance.

[FR Doc. 00-10580 Filed 4-27-00; 8:45 am]

BILLING CODE 4510-30-M